DEPARTMENT OF COMMERCE

National Oceanic and Atmospheric Administration

Proposed Revised Information Collection; Comment Request; Survey To Collect Economic Data From Recreational Anglers Along the Atlantic Coast

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 1, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Scott Steinback, Economist, Northeast Fisheries Science Center, 166 Water St., Woods Hole, MA 02543. Tel: (508) 495-4701 or scott.steinback@noaa.gov.

SUPPLEMENTARY INFORMATION:

I. Abstract

This request is for a revision to a currently approved information collection.

The objective of the original data collection effort under OMB Control Number 0648-0783 was to assess how changes in saltwater recreational fishing regulations affect angler effort, angler welfare, fishing mortality, and future stock levels. That data collection effort focused on anglers who fished for Atlantic cod and haddock off the Atlantic coast from Maine to Massachusetts. Under this revised information collection request, the objective remains the same, but a new survey will be added with the focus on anglers who fish for summer flounder and black sea bass along the Atlantic coast from Massachusetts to North Carolina.

Data collected from this survey will improve our ability to understand and predict how changes in management options and regulations may change fishing mortality and the number of trips anglers take for summer flounder and black sea bass. This data will allow fisheries managers to conduct updated and improved analysis of the socio-economic effects to recreational anglers and to coastal communities of proposed changes in fishing regulations. The recreational fishing community and regional fisheries management councils have requested more species-specific socio-economic studies of recreational fishing that can be used in the analysis of fisheries policies. This survey will address that stated need for more species-specific studies. The population consists of those anglers who fish in saltwater along the Atlantic coast from Massachusetts to North Carolina and who possess a license to fish. A sample of anglers will be drawn from state fishing license frames. The survey will be conducted using both mail and email to contact anglers and invite them to take the survey online. Anglers not responding to the online survey may receive a paper survey in the mail.

II. Method of Collection

The survey will be conducted using two modes: Mail and internet.

III. Data

OMB Control Number: 0648-0783.

Form Number(s): None.

Type of Review: Regular (revision of a currently approved information collection).

Affected Public: Individuals or households.

Estimated Number of Respondents: 2,000.

Estimated Time per Response: 15 minutes

Estimated Total Annual Burden Hours: 500 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 30, 2020.
Sheleen Dumas,
Department PRA Clearance Officer, Office of the Chief Information Officer, Commerce Department.

[FR Doc. 2020-06921 Filed 4-1-20; 8:45 am]

BILLING CODE 3510-22-P